DEPARTMENT OF COMMERCE

National Oceanic and Atmospheric Administration

RIN 0648-XC328

Fisheries of the Gulf of Mexico; Southeast Data, Assessment, and Review (SEDAR); Public Meetings

AGENCY: National Marine Fisheries Service (NMFS), National Oceanic and Atmospheric Administration (NOAA), Commerce.

ACTION: Notice of Cancellation of SEDAR 28 Gulf of Mexico Spanish mackerel and cobia assessment Webinar.

SUMMARY: The SEDAR 28 assessment of the Gulf of Mexico Spanish mackerel and cobia fisheries will consist of a series of workshops and supplemental Webinars. This notice is for a Cancellation of a Webinar associated with the Assessment portion of the SEDAR process. See SUPPLEMENTARY INFORMATION.

DATES: The SEDAR 28 Assessment Workshop Webinar scheduled to be held on November 26, 2012, from 1 p.m. until 5 p.m. EDT has been cancelled.

FOR FURTHER INFORMATION CONTACT: Ryan Rindone, SEDAR Coordinator, 2203 N. Lois Ave., Suite 1100, Tampa FL 33607; telephone: (813) 348-1630; email: ryan.rindone@gulfcouncil.org.

SUPPLEMENTARY INFORMATION: The original notice published in the Federal Register on November 7, 2012 (77 FR 66818).

The Gulf of Mexico Fishery Management Council (GMFMC), in conjunction with NOAA Fisheries, has implemented the Southeast Data, Assessment and Review (SEDAR) process, a multi-step method for determining the status of fish stocks in the Southeast Region. SEDAR is a three-step process including: (1) Data Workshop; (2) Assessment Process, including a workshop and Webinars; and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a summary documenting panel opinions regarding the strengths and weaknesses of the stock assessment and input data. Participants for SEDAR Workshops are appointed by the GMFMC, NOAA Fisheries Southeast Regional Office, and the NOAA Southeast Fisheries Science Center. Participants include: data collectors and database managers; stock assessment scientists, biologists, and researchers; constituency representatives including fishermen, environmentalists, and non-governmental organizations (NGOs); international experts; and staff of Councils, Commissions, and state and federal agencies.

Dated: November 19, 2012.
Tracey L. Thompson,
Acting Deputy Director, Office of Sustainable Fisheries, National Marine Fisheries Service.

[FR Doc. 2012-28389 Filed 11-21-12; 8:45 am]

BILLING CODE 3410-22-P